DEPARTMENT OF TRANSPORTATION

Federal Aviation Administration

14 CFR Part 71

Docket No. FAA-2005-22509; Airspace Docket No. 03-AWA-2

RIN 2120-AA66

Modification of the St. Louis Class B Airspace Area; MO

AGENCY: Federal Aviation Administration (FAA), DOT.

ACTION: Final rule.

SUMMARY: This action modifies the St. Louis, MO, (STL) Class B airspace area to contain large, turbine-powered aircraft operations to and from the new Runway 11/29 at the Lambert-St. Louis International Airport (KSTL), St. Louis, MO. The FAA is taking this action to enhance safety and improve the management of aircraft operations in the KSTL terminal area. Further, this effort supports the FAA's national airspace redesign goal of optimizing terminal and en route airspace areas to reduce aircraft delays and improve system capacity.

DATES: Effective Date: 0901 UTC, April 13, 2006.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

Background

On November 22, 2005, the FAA published in the Federal Register a notice of proposed rulemaking (NPRM) to modify the STL Class B airspace area (70 FR 70558). The FAA proposed the action to enhance safety and improve the management of aircraft operations in the KSTL terminal area by containing large, turbine-powered aircraft operations to and from the new Runway 11/29 within the STL Class B airspace area.

As part of the FAA's Operational Evolution Plan, a new runway is under construction at KSTL. The new runway (Runway 11/29) is designed to provide a 51% increase in airport capacity and is scheduled to be commissioned in April, 2006. If the current Class B airspace area is not expanded, aircraft conducting instrument operations to this new runway will frequently need to intercept instrument approaches outside of the STL Class B airspace area. This action addresses that matter.

Discussion of Comments

International parties were invited to participate in this rulemaking proceeding by submitting written comments on the proposal to the FAA. The FAA received three comments as follows:

The Air Line Pilots Association, International (ALPA) concurred with the proposed modifications to the STL Class B airspace area and suggested raising the ceiling of the STL Class B airspace area from 8,000 feet above mean sea level (MSL) to 10,000 feet MSL in addition to the modifications proposed in the NPRM “to further improve the safety of arrival and departure operation to and from [KSTL].” The FAA considered raising the ceiling of Class B airspace early in the planning phase for this modification; however, the increase was opposed by the ad hoc committee and sufficient justification for raising the ceiling was not found. The FAA will continue to evaluate traffic volume and flow patterns in the KSTL terminal area to identify any future safety benefit that may be gained by raising the ceiling.

A second commenter also suggested raising the ceiling of the STL Class B airspace area to 10,000 feet MSL. The FAA does not support that view as discussed above. Additionally, the commenter expressed a concern with using geographical references because pilots not familiar with the area may have difficulty identifying them. He suggested using radials of the Troy Very High Frequency Omni-Range (VOR) to delineate the boundaries of the “keyhole” to the northeast of KSTL. The FAA disagrees with using the Troy VOR rather than geographical features to describe the boundaries of Class B airspace. The ad hoc committee specifically expressed their desire to use geographical landmarks wherever possible to facilitate a visual flight rules (VFR) pilot's ability to identify boundaries. Further, adoption of this suggestion would unnecessarily expand the amount of Class B airspace beyond what is actually needed to contain large, turbine-powered aircraft within the STL Class B airspace area.

That commenter also suggested “eliminating Area I or standardizing its floor with the adjacent Area G.” The FAA finds that designating Area I is necessary to contain large, turbine-powered aircraft utilizing the TRAKE 8 Arrival to the new Runway 11. Further, the suggestion to lower the floor of this area to 4,500 feet MSL (to coincide with the floor of Area G) would result in airspace being added to Class B that is not necessary to contain large turbine-powered aircraft within the STL Class B airspace area.

The third commenter suggested using a river to the north of KSTL as a boundary for the STL Class B surface area. This would provide a visual reference for VFR pilots. This suggestion had been considered but not adopted by the ad hoc committee. While the Missouri River will no longer define this boundary, pilots may use the Cardinal VOR/DME or visual references such as Highway 94 or Route H to identify the boundary. Further, the FAA believes that expanding the Class B surface area to the northwest and north of KSTL is necessary to contain large, turbine-powered aircraft departing Runway 29 that turn northbound.

The third commenter also requested that the floor of the STL Class B airspace area remain at 2,000 feet MSL over the St. Charles Airport (3SQ) rather than lowering it to 1,700 feet MSL. The FAA believes that lowering the floor of Class B airspace over 3SQ is necessary to ensure that large, turbine-powered aircraft arriving Runway 11 or departing Runway 29 are contained within the STL Class B airspace area. Further, because the traffic pattern altitude at the 3SQ is 1,100 feet MSL, aircraft may continue their practice of flying over the traffic pattern at 1,600 feet MSL without entering the STL Class B airspace area. This practice will also provide sufficient vertical separation between aircraft flying over 3SQ and large, turbine-powered aircraft operating to and from Runway 11/29.

The coordinates for this airspace docket are based on North American Datum 83. Class B airspace areas are published in paragraph 3000 of FAA Order 7400.9N, Airspace Designations and Reporting Points, dated September 1, 2005, and effective September 15, 2005, which is incorporated by reference in 14 CFR section 71.1. The Class B airspace area listed in this document would be published subsequently in the order.

The Rule

This action amends Title 14 Code of Federal Regulations (14 CFR) part 71 by modifying the STL Class B airspace area. Specifically, this action (depicted on the attached chart) modifies Areas A, B, C, D, E, F, G, and H. It also re-designates a portion of the current Area G as a new Area H and designates a new Area I. The FAA is taking this action to improve the management of aircraft operations in the STL terminal area and enhance safety by expanding the dimensions of the STL Class B airspace area to protect large, turbine-powered aircraft operations to and from the new Runway 11/29 at KSTL. Additionally, this action supports various efforts to enhance the efficiency and capacity of the National Airspace System

Regulatory Evaluation Summary

Changes to Federal Regulations must undergo several economic analyses. First, Executive Order 12866 directs that each Federal agency shall propose or adopt a regulation only upon a reasoned determination that the benefits of the intended regulation justify its costs. Second, the Regulatory Flexibility Act requires agencies to analyze the economic effect of regulatory changes on small businesses and other small entities. Third, the Office of Management and Budget directs agencies to assess the effect of regulatory changes on international trade. In conducting these analyses, the FAA has determined that this final rule: (1) Will generate benefits that justify its circumnavigation costs and is not a “significant regulatory action” as defined in the Executive Order; (2) is not significant as defined in the Department of Transportation's Regulatory Policies and Procedures; (3) will not have a significant impact on a substantial number of small entities; (4) will not constitute a barrier to international trade; and (5) will not contain any Federal intergovernmental or private sector mandate. These analyses are summarized here in the preamble, and the full Regulatory Evaluation is in the docket.

This final rule will modify the St. Louis, MO, Class B airspace. The final rule will reconfigure the sub-area boundaries, raise the altitude ceiling in certain segments of the airspace and lower the altitude floor in certain segments.

The final rule will generate benefits for system users in the form of enhanced operational efficiency and simplified navigation in the St. Louis terminal area. These modifications will impose some costs (an additional 5 NM circumnavigation around the expanded controlled airspace) on operators of non-compliant aircraft. However, the cost of circumnavigation is considered to be small. Thus, the FAA has determined this final rule will be cost-beneficial.

Final Regulatory Flexibility Determination

The Regulatory Flexibility Act of 1980 (RFA) establishes “as a principle of regulatory issuance that agencies shall endeavor, consistent with the objective of the rule and of applicable statutes, to fit regulatory and informational requirements to the scale of the business, organizations, and governmental jurisdictions subject to regulation.” To achieve that principle, the RFA requires agencies to consider flexible regulatory proposals, to explain the rationale for their actions, and to solicit comments. The RFA covers a wide-range of small entities, including small businesses, not-for-profit organizations and small governmental jurisdictions. Agencies must perform a review to determine whether a rulemaking action will have a significant economic impact on a substantial number of small entities. If the agency determines that it will, the agency must prepare a regulatory flexibility analysis as described in the Act.

However, if an agency determines that a rulemaking action is not expected to have a significant economic impact on a substantial number of small entities, section 605(b) of the RFA provides that the head of the agency may so certify and a regulatory flexibility analysis is not required. The certification must include a statement providing the factual basis for this determination, and the reasoning should be clear.

This final rule may impose some circumnavigation costs on individuals operating in the St. Louis terminal area; but the final rule will not impose any costs on small business entities. Operators of general aviation aircraft are considered individuals, not small business entities and are not included when performing a regulatory flexibility analysis. Flight schools are considered small business entities. However, the FAA assumes that they provide instruction in aircraft equipped to navigate in Class B airspace given they currently provide instruction in the St. Louis terminal area. Therefore, these small entities should not incur any additional costs as a result of the final rule. Accordingly, pursuant to the Regulatory Flexibility Act, 5 U.S.C. 605(b), the Federal Aviation Administration certifies this final rule will not have a significant economic impact on a substantial number of small entities.

International Trade Impact Assessment

The Trade Agreements Act of 1979 prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this final rule and determined that it will impose the same costs on domestic and international entities and thus have a neutral trade impact.

Unfunded Mandates Assessment

The Unfunded Mandates Reform Act of 1995 (the Act) is intended, among other things, to curb the practice of imposing unfunded Federal mandates on State, local, and tribal governments. Title II of the Act requires each Federal agency to prepare a written statement assessing the effects of any Federal mandate in a proposed or final agency rule that may result in an expenditure of $100 million or more (adjusted annually for inflation) in any one year by State, local, and tribal governments, in the aggregate, or by the private sector; such a mandate is deemed to be a “significant regulatory action.” The FAA currently uses an inflation-adjusted value of $120.7 million in lieu of $100 million

This rulemaking action does not contain such a mandate. The requirements of Title II do not apply.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND CLASS E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9N, Airspace Designations and Reporting Points, dated September 1, 2005, and effective September 15, 2005, is amended as follows:

Paragraph 3000 Class B Airspace

* * * * *

ACE MO B St. Louis, MO [Revised]

Lambert-St. Louis International Airport (Primary Airport)

(Lat. 38°44′52″ N., long. 90°21′36″ W.)

Creve Coeur Airport

(Lat. 38°43′36″ N., long. 90°30′30″ W.)

St. Charles Municipal Airport

(Lat. 38°50′55″ N., long. 90°30′00″ W.)

Cardinal VOR/DME (CSX)

(Lat. 38°45′10″ N., long. 90°21′39″ W.)

Foristell VORTAC

(Lat. 38°41′40″ N., long. 90°58′17″ W.)

ILS Runway 30L Localizer

(Lat. 38°45′17″ N., long. 90°22′52″ W.)

Boundaries

Area A. That airspace extending from the surface to and including 8,000 feet MSL within a 6-mile DME radius of the Cardinal VOR/DME excluding that airspace within the 1.5NM radius of the Creve Coeur Airport.

Area B. That airspace extending upward from 1,700 feet MSL to and including 8,000 feet MSL within a 10-mile DME radius of the Cardinal VOR/DME beginning at the intersection of the 6-mile DME arc and Page Avenue, then westward along Page Avenue to Missouri Route 94, then westward along Missouri Route 94 to the intersection of Missouri Route 94 and the 10-mile DME arc, then clockwise along the 10-mile DME arc to the intersection of the 10-mile DME arc and the power lines located 2NM north of the St. Charles Municipal Airport, then southeast along the power lines to the intersection of the power lines and the 6-mile DME arc, then counterclockwise along the 6-mile DME arc to the intersection of the 6-mile DME arc and the 1.5NM radius arc of the Creve Coeur Airport, then clockwise along the 1.5NM arc of the Creve Coeur Airport to the intersection of the 1.5NM arc of the Creve Coeur Airport and the 6-mile DME arc, then counterclockwise along the 6-mile DME arc to the point of beginning.

Area C. That airspace extending upward from 2,000 feet MSL to and including 8,000 feet MSL within a 10-mile DME radius of the Cardinal VOR/DME, excluding Areas A, B, and D.

Area D. That airspace extending upward from 2,500 feet MSL to and including 8,000 feet MSL within a 10-mile DME radius of the Cardinal VOR/DME, bounded on the south by the 10-mile DME arc and on the north by Interstate 64.

Area E. That airspace extending upward from 3,000 feet MSL to and including 8,000 feet MSL within a 15-mile DME radius of the Cardinal VOR/DME, excluding Areas A, B, C, and D.

Area F. That airspace extending upward from 3,500 feet MSL to and including 8,000 feet MSL within a 20-mile DME radius of the Cardinal VOR/DME, northwest of the Cardinal VOR/DME, beginning at the intersection of Interstate 64 and the 20-mile DME radius, clockwise along the 20-mile DME arc to the intersection of the 20-mile DME arc and the island in the Illinois River (lat. 39°02′ 23″ N., long. 90°34′40″ W.), then along a line direct to the 15-mile DME arc centered on Grafton, Illinois (lat. 38°59′12″ N., long. 90°28′20″ W.), then counterclockwise along the 15-mile DME arc to the intersection of the 15-mile DME arc and Interstate 64, then west along Interstate 64 to the point of beginning; and that airspace, southeast of the Cardinal VOR/DME, beginning at the intersection of the 20-mile DME arc of the Cardinal VOR/DME and Interstate 270, then clockwise along the 20-mile DME arc to the intersection of the 20-mile DME arc and Illinois Route 3, then northwest along Illinois Route 3 to the intersection of Illinois Route 3 and Interstate 255, then northwest along Interstate 255 to the 15-mile DME arc, then counterclockwise along the 15-mile DME arc to the intersection of the 15-mile DME arc and Interstate 270, then east along Interstate 270 to the point of beginning.

Area G. That airspace extending upward from 4,500 feet MSL to and including 8,000 feet MSL within a 30-mile DME radius of the Cardinal VOR/DME, southeast of the Cardinal VOR/DME, beginning at the intersection of the 30-mile DME arc and Victor 4 Low Altitude Airway, then northwest along Victor 4 to the intersection of Victor 4 and the 20-mile DME arc, then clockwise along the 20-mile DME arc to the intersection of the 20-mile DME arc and Illinois Route 3 (Columbia, Illinois), then southeast along a line parallel to the runway 30L localizer course to intersect the 30-mile DME arc, then counterclockwise along the 30-mile DME arc to the point of beginning; and that airspace, northwest of the Cardinal VOR/DME, beginning at the Cardinal VOR/DME 320° radial at 30 DME, then counterclockwise along the 30-mile DME arc to the Cardinal VOR/DME 286° radial at 30 DME, then along a line southeast direct to the Cardinal VOR/DME 277° radial at 20 DME, then clockwise along the 20-mile DME arc to the intersection of the 20-mile DME arc and the island in the middle of the Illinois River (lat. 39°02′23″ N., long. 90°34′40″ W.), then along a line northwest direct to the point of beginning.

Area H. That airspace extending upward from 5,000 feet MSL to and including 8,000 feet MSL within a 20-mile DME radius of the Cardinal VOR/DME, excluding Areas A, B, C, D, E, and F.

Area I. That airspace extending upward from 5,000 feet MSL to and including 8,000 feet MSL within a 30-mile DME radius of the Cardinal VOR/DME, beginning at the Cardinal VOR/DME 286° radial at 30 DME, then counterclockwise along the 30-mile DME arc to the intersection of the 30-mile DME arc and the power line 2.5NM northwest of the Foristell VORTAC, then east along the power line to the intersection of the power line and the 20-mile DME arc, then clockwise along the 20-mile DME arc to the Cardinal VOR/DME 277° radial at 20 DME, then along a line northwest direct to the point of beginning.

* * * * *

Issued in Washington, DC, on February 7, 2006.
Edith V. Parish,
Manager, Airspace and Rules.

BILLING CODE 4910-13-P

[FR Doc. 06-1429 Filed 2-14-06; 8:45 am]

BILLING CODE 4910-13-C